DEPARTMENT OF COMMERCE

International Trade Administration

(A-423-808)

Stainless Steel Plate in Coils From Belgium: Final Results of Antidumping Duty Administrative Review

AGENCY: Import Administration, International Trade Administration, U.S. Department of Commerce.

SUMMARY: On June 6, 2008, the Department of Commerce (the Department) published the preliminary results of the antidumping duty order on stainless steel plate in coils (SSPC) from Belgium. See Stainless Steel Plate in Coils From Belgium: Preliminary Results of Antidumping Duty Administrative Review, 73 FR 32298 (June 6, 2008) (Preliminary Results). This review covers one manufacturer/exporter of the subject merchandise: Ugine & ALZ Belgium (U&A Belgium). The period of review (POR) is May 1, 2006, through April 30, 2007.

Based on our analysis of the comments received, we have made changes to the Preliminary Results. For the final dumping margins see the “Final Results of Review” section below.

EFFECTIVE DATE: December 11, 2008.

FOR FURTHER INFORMATION CONTACT: Cindy Robinson or George McMahon at (202) 482-3797 or (202) 482-1167, respectively; Office of AD/CVD Operations 3, Import Administration, International Trade Administration, U.S. Department of Commerce, 14th Street and Constitution Avenue, NW, Washington DC 20230.

SUPPLEMENTARY INFORMATION:

Background

On June 6, 2008, the Department published in the Federal Register the preliminary results of the sixth administrative review of the antidumping duty order on SSPC from Belgium. See Preliminary Results. On September 15, 2008, the Department published a notice extending the deadline of the final results to December 3, 2008. See Stainless Steel Plate in Coils From Belgium: Extension of Time Limit for Final Results of Antidumping Duty Administrative Review, 73 FR 53190 (September 15, 2008). Since the Preliminary Results, the following events have occurred. On October 17, 2008, the Department issued a Post-Preliminary Determination which applied an alternative cost-averaging methodology. See Memorandum from Angela Strom to Neal Halper titled, “Proposed Adjustments to the Cost of Production and Constructed Value Data-Ugine and ALZ Belgium,” dated October 17, 2008 (Post-Preliminary Determination).

The Department extended the briefing schedule to provide interested parties an opportunity to comment on the post-preliminary results. Case and rebuttal briefs were timely filed by the respondent, U&A Belgium, and Allegheny Ludlum Corporation, North American Stainless, United Auto Workers Local 3303, Zanesville Armco Independent Organization, and the United Steelworkers of America, AFL-CIO/CLC (collectively, the petitioners).¹

The issues raised in all case and rebuttal briefs by parties to this administrative review are addressed in the memorandum titled, “Issues and Decisions for the Final Results of the Sixth Administrative Review of the Antidumping Duty Order on Stainless Steel Plate in Coils from Belgium (2006-2007)”, from Stephen J. Claeys, Deputy Assistant Secretary for Antidumping and Countervailing Duty Operations to David M. Spooner, Assistant Secretary for Import Administration (December 3, 2008) (Decision Memorandum), which is hereby adopted by this notice. A list of the issues addressed in the Decision Memorandum is appended to this notice. The Decision Memorandum is on file in the Central Records Unit (CRU), room 1117 of the Department of Commerce main building and can be accessed directly at (http://ia.ita.doc.gov/frn/index.html). The paper copy and electronic version of the Decision Memorandum are identical in content.

Scope of the Antidumping Duty Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils; (2) Plate that is not annealed or otherwise heat treated and pickled or otherwise descaled; (3) Sheet and strip; and (4) Flat bars.

The merchandise subject to this order is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Changes Since the Preliminary Results

Based on our analysis of the comments received, we have made changes in the calculations for the final dumping margin. The changes made since the Preliminary Results are listed under the “List of Issues” which is appended to this notice. The changes are discussed in detail in the memorandum to the File Through James Terpstra from George McMahon titled, “Analysis Memorandum for Ugine & ALZ, N.V. Belgium for the Final Results of the Sixth Administrative Review of Stainless Steel Plate in Coils (SSPC) from Belgium,” dated December 3, 2008 (Final Sales Analysis Memorandum), and Memorandum to Neal M. Halper from Angela Strom titled, “Cost of Production and Constructed Value Calculation Adjustments for the Final Results - Ugine and ALZ Belgium,” dated December 3, 2008 (Final Cost Calculation Memorandum).

On January 28, 2008, U&A Belgium requested that the Department use quarterly weighted-average costs in its antidumping analysis arguing that the Department's normal annual average cost approach would result in distortions and inappropriate comparisons in our margin calculation. On May 9, 2008, the Department issued a general request for comment on the issue of shorter cost averaging periods in a Federal Register notice with a deadline for submission of comments of June 9, 2008.² The preliminary results of this administrative review were due prior to the comment deadline; thus, we found it was appropriate to follow our normal methodology of using U&A Belgium's annual weighted-average costs in our margin calculation. See Preliminary Results. However, we stated in the Preliminary Results that we intended to consider this issue further and provide a memorandum discussing the results of our analysis in order to give parties an opportunity to comment before the final results.

On October 17, 2008, we provided a post-preliminary calculation memorandum, which disclosed our intention to adopt an alternative cost averaging methodology in these final results. See Post-Preliminary Determination. In the Post-Preliminary Determination, the Department concluded that our alternative cost averaging approach is warranted in this case for the following reasons: 1) the changes in the cost of manufacturing experienced by U&A Belgium during the POR was clearly significant; and, 2) that the alloy surcharge mechanism demonstrates that costs were reasonably linked to sales prices during the POR. We have made no cost adjustments to our post-preliminary calculations in these final results.

Final Results of Review

As a result of our review, we determine that the following weighted-average margin exists for the period May 1, 2006, through April 30, 2007:

Manufacturer/Exporter | Margin (percent)
Ugine & ALZ Belgium | 7.53

Duty Assessment

The Department shall determine and CBP shall assess antidumping duties on all appropriate entries. Pursuant to 19 CFR 351.212(b)(1), the Department calculates an assessment rate for each importer of the subject merchandise for each respondent. Upon issuance of the final results of this administrative review, if any importer-specific assessment rates calculated in the final results are above de minimis (i.e., at or above 0.5 percent), the Department will issue appraisement instructions directly to CBP to assess antidumping duties on appropriate entries.

To determine whether the duty assessment rates covering the period were de minimis, in accordance with the requirement set forth in 19 CFR 351.106(c)(2), for each respondent we calculated importer (or customer)- specific ad valorem rates by aggregating the dumping margins calculated for all U.S. sales to that importer or customer and dividing this amount by the total value of the sales to that importer (or customer). Where an importer (or customer)-specific ad valorem rate is greater than de minimis, and the respondent has reported reliable entered values, we apply the assessment rate to the entered value of the importer's/customer's entries during the review period. Where an importer (or customer)- specific ad valorem rate is greater than de minimis and we do not have reliable entered values, we calculate a per-unit assessment rate by aggregating the dumping duties due for all U.S. sales to each importer (or customer) and dividing this amount by the total quantity sold to that importer (or customer). The Department will issue appropriate assessment instructions directly to CBP 15 days after publication of the final results of this review.

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings Assessment of Antidumping Duties, 68 FR 23954 (May 6, 2003). The Department intends to issue assessment instructions directly to CBP 15 days after publication of these final results of review.

Cash Deposit Requirements

The following antidumping duty deposit rates will be effective upon publication of the final results of this administrative review for all shipments of SSPC from Belgium entered, or withdrawn from warehouse, for consumption on or after the publication date of these final results, as provided for by section 751(a)(1) of the Act: (1) for U&A Belgium, the cash deposit rate will be the rate established in the final results of this review; (2) if the exporter is not a firm covered in this review, but was covered in a previous review or the original less-than-fair-value (LTFV) investigation, the cash deposit rate will continue to be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate will be 9.86 percent ad valorem, the “all-others” rate established in the LTFV investigation. See Notice of Final Determination of Sales at Less Than Fair Value: Stainless Steel Plate in Coils from Belgium, 64 FR 15476 (March 31, 1999). These deposit rates, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the disposition of proprietary information disclosed under APO in accordance with 19 CFR 351.305(a)(5). Timely written notification of the return/destruction of APO materials or conversion to judicial protective order is hereby requested. Failure to comply with the regulations and terms of an APO is a sanctionable violation.

This administrative review and notice are in accordance with sections 751(a)(1) and 777(i)(1) of the Act.

Dated: December 3, 2008.
David M. Spooner,
Assistant Secretary for Import Administration.

APPENDIX

List of Issues

Comment 1: Whether the Disallowance of Offsets for Non-Dumped Sales is in Accordance with the Statute and the International Obligations of the United States

Comment 2: Whether to Revise the Date of Sale for Certain Home Market Sales

Comment 3: Whether to Incorporate the Department's Findings in the Ongoing Scope Inquiry

Comment 4: Whether to apply an Alternative Cost-Averaging Methodology

¹ Case briefs and rebuttal briefs were submitted by the following domestic interested parties and respondent: on October 24, 2008, the petitioners filed a case brief (the Petitioners' Case Brief); on October 29, 2008, the petitioners filed a rebuttal brief (the Petitioners' Rebuttal Brief); on October 24, 2008, U&A Belgium submitted a case brief (U&A Belgium's Case Brief); and on October 29, 2008, U&A Belgium submitted a rebuttal brief (U&A Belgium's Rebuttal Brief).

² See Antidumping Methodologies for Proceedings that Involve Significant Cost Changes Throughout the Period of Investigation (POI)/Period of Review (POR) that May Require Using Shorter Cost Averaging Periods; Request for Comment, 73 FR 26364 (May 9, 2008) (Antidumping Methodologies; Request for Comment).

[FR Doc. E8-29410 Filed 12-10-08; 8:45 am]

BILLING CODE 3510-DS-S